DEPARTMENT OF ENERGY

Federal Energy Regulatory Commission

[Docket Nos. GP91-8-012; GP91-10-012]

Jack J. Grynberg, Individual and as General Partner for the Greater Green River Basin Drilling Program: 72-73 v. Rocky Mountain Natural Gas Company, a Division of K N Energy Inc.; Rocky Mountain Natural Gas Company, a Division of K N Energy Inc. v. Jack J. Grynberg, Individually and as General Partner for the Greater Green River Basin Drilling Program: 72-73; Notice of Refund Report

February 21, 2001.

Take notice that on December 21, 2000, Jack J. Grynberg (Grynberg) tendered for filing a Refund Report reflecting refunds due under the Commission's November 21, 2000 “Order Denying Rehearing and on Compliance Filing” (November 2000 Order) issued in the captioned proceedings. In addition, pursuant to Ordering Paragraph (C) of the November 2000 Order, Grynberg stated he transmitted a check for $597,107.97 to Questar Pipeline Company (Questar). Grynberg submitted his refund report and made payment to Questar without prejudice to his ability to seek judicial review of the November 2000 Order and the recovery of amounts paid, with interest, if the November 2000 Order is reversed and no refunds are required.

The refund report documents the ceiling price applicable under the Natural Gas Act and Natural Gas Policy Act of 1978 for each of the four wells for which refunds are due, and the formula used to calculate such refunds. Pursuant to the November 2000 Order, refunds were calculated only for sales prior to July 26, 1989. The amount paid Questar reflects total refunds due with interest through December 21, 2000, subject to a reduction for uncollectible royalties previously paid to the Colorado State Board of Line Commissioners (CSB) and to the U.S. Department of the Interior, Minerals Management Service (MMS). The royalties attributable to the CSB totaled $6,611 and to the MMS totaled $78,690.

Any person desiring to protest said filing should file a protest with the Federal Energy Regulatory Commission, 888 First Street, N.E., Washington, D.C. 20426, in accordance with section 385.211 of the Commission's Rules and Regulations, should file on or before March 4, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://­www.ferc.fed.us/efi/doorbell.htm.

David P. Boergers,
Secretary.

[FR Doc. 01-4636 Filed 2-23-01; 8:45 am]

BILLING CODE 6717-01-M